DEPARTMENT OF TRANSPORTATION

Federal Aviation Administration

14 CFR Part 71

[Docket No. FAA-2013-0079; Airspace Docket No. 09-AWA-4]

RIN 2120-AA66

Amendment to Class B Airspace Area; Detroit, MI

AGENCY: Federal Aviation Administration (FAA), DOT.

ACTION: Final rule; correction.

SUMMARY: This action corrects a final rule published in the Federal Register January 21, 2014. In that rule, the shared boundary between the Detroit Class B airspace Area A and Area B subareas did not match, as originally intended, in the regulatory text descriptions. This correction is necessary to close the unintended gap between subareas created by the boundary error and to ensure the accuracy of the charted Detroit Class B airspace area.

DATES: Effective Date: 0901 UTC, April 3, 2014. The Director of the Federal Register approves this incorporation by reference action under 3 CFR part 51, subject to the annual revision of FAA Order 7400.9 and publication of conforming amendments.

FOR FURTHER INFORMATION CONTACT: Colby Abbott, Airspace Policy and Regulations Group, Office of Airspace Services, Mission Support, Federal Aviation Administration, 800 Independence Avenue SW., Washington, DC 20591; telephone: (202) 267-8783.

SUPPLEMENTARY INFORMATION:

History

On January 21, 2014, a final rule for FAA Docket No. FAA-2012-0661, Airspace Docket No. 09-AWA-4, was published in the Federal Register (79 FR 3305) to amend the Detroit Class B airspace area. The Detroit Class B airspace area was modified to contain aircraft conducting published instrument procedures at Detroit Metropolitan Wayne County Airport (DTW) within Class B airspace, enhance safety, improve the flow of air traffic, and reduce the potential for midair collisions in the DTW terminal area, while accommodating the concerns of all airspace users.

Subsequent to publication of the rule, the FAA determined the boundary segment described in Area A, from lat. 42°17′18″ N., long. 83°27′27″ W. on the 4.4-mile radius of the Detroit Willow Run Airport to lat. 42°20′47″ N., long. 83°22′12″ W. on the 8-mile arc of the DXO VOR/DME, and the boundary segment described in Area B, from the intersection of the DXO VOR/DME 354° radial and the Detroit Willow Run Airport 047° bearing to lat. 42°20′47″ N., long. 83°22′12″ W., did not align as intended and contained a gap between the two adjacent subareas. The FAA is correcting this minor error by adding the geographic point defined by the intersection of the DXO VOR/DME 354° radial and the Detroit Willow Run Airport 047° bearing in the Area A description to remove the gap.

Correction to Final Rule

Accordingly, pursuant to the authority delegated to me, in the Federal Register of January 21, 2014, the text on page 3312, column 2, line 47, is corrected to read:

§ 71.1 [Amended]

AGL MI B Detroit, MI [Corrected]

For Area A, between the words “Airport;” and “thence”, add the following: “thence northeast to the intersection of the DXO VOR/DME 354° radial and the Detroit Willow Run Airport 047° bearing:”.

Issued in Washington, DC, on March 24, 2014.
Ellen Crum,
Acting Manager, Airspace Policy and Regulations Group.

[FR Doc. 2014-06959 Filed 3-28-14; 8:45 am]

BILLING CODE 4910-13-P